SOCIAL SECURITY ADMINISTRATION

Agency Information Collection Activities: Proposed Request and Comment Request

The Social Security Administration (SSA) publishes a list of information collection packages that will require clearance by the Office of Management and Budget (OMB) in compliance with Pub. L. 104-13, the Paperwork Reduction Act of 1995, effective October 1, 1995. The information collection packages that may be included in this notice are for new information collections, approval of existing information collections, revisions to OMB-approved information collections, and extensions (no change) of OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed and/or faxed to the individuals at the addresses and fax numbers listed below:

(OMB), Office of Management and Budget, Attn: Desk Officer for SSA, New Executive Building, Room 10235, 725 17th St., NW., Washington, DC 20503, Fax: 202-395-6974;

(SSA), Social Security Administration, DCFAM, Attn: Reports Clearance Officer, 1338 Annex Building, 6401 Security Blvd., Baltimore, MD 21235, Fax: 410-965-6400.

I. The information collections listed below are pending at SSA and will be submitted to OMB within 60 days from the date of this notice. Therefore, your comments should be submitted to SSA within 60 days from the date of this publication. You can obtain copies of the collection instruments by calling the SSA Reports Clearance Officer at 410-965-0454 or by writing to the address listed above.

1. Certification of Contents of Document(s) or Record(s)—20 CFR 404.715 Subpart H—0960-NEW. SSA must secure evidence necessary for individuals to establish rights to benefits. Some of the types of evidence needed are evidence of age, relationship, citizenship, marriage, death, and military service. Form SSA-704 allows SSA employees, state record custodians, and other custodians of evidentiary documents to record information from documents and records to establish these types of evidence. SSA employees use this form but it also is used by state record custodians and other custodians of evidentiary documents.

Type of Request: Form in use without OMB clearance.

Number of Respondents: 4,200.

Average Burden Per Response: 10 minutes.

Frequency of Response: 1.

Estimated Annual Burden: 700.

2. Modified Benefit Formula Questionnaire-Foreign Pension—0960-0561. The information collected on form SSA-308 is used by SSA to determine exactly how much (if any) of the foreign pension may be used to reduce the amount of the Social Security retirement or disability benefit under the modified benefit formula. The respondents are applicants for Social Security retirement/disability benefits.

Type of Request: Extension of OMB-approved information collection.

Number of Responses: 50,000.

Frequency of Response: 1.

Average Burden Per Response: 10 minutes.

Estimated Annual Burden: 8,333 hours.

3. Beneficiary Interview and Auditor's Observations Form—0960-0630. The information collected through the Beneficiary Interview and Auditor's Observation Form, SSA-322, will be used by the SSA Office of the Inspector General (OIG) to interview beneficiaries and/or their representative payees to determine whether the payees are complying with their duties and responsibilities. Respondents to this collection will be randomly selected Supplemental Security Income recipients and Social Security beneficiaries that have representative payees.

Type of Request: Extension of an OMB-approved collection.

Number of Respondents: 2,550.

Frequency of Response: 1.

Average Burden Per Response: 15 minutes.

Estimated Annual Burden: 638.

4. Questionnaire for Children Claiming SSI Benefits—0960-0499. The information collected on form SSA-3881-BK is used by SSA to evaluate disability in children who are appealing an unfavorable disability decision or whose continuing disability is being reviewed. The form requests the names and addresses of non-medical sources such as schools, counselors, agencies, organizations or therapists who would have information about a child's functioning. The respondents are children or their representatives who are appealing an unfavorable decision on their claim or whose continuing disability is being reviewed.

Type of Request: Extension of OMB-approved collection.

Number of Respondents: 272,000.

Frequency of Response: 1.

Average Burden Per Response: 30 minutes.

Estimated Annual Burden: 136,000 hours.

II. The information collection listed below has been submitted to OMB for clearance. Your comments on the information collections would be most useful if received by OMB and SSA within 30 days from the date of this publication. You can obtain a copy of the OMB clearance package by calling the SSA Reports Clearance Officer at 410-965-0454, or by writing to the addresses listed above.

1. Child Relationship Statement—20 CFR 404.355 and 404.731—0960-0116. SSA uses the information collected on Form SSA-2519 to help determine the entitlement of children to Social Security benefits under section 216(h)(3) of the Social Security Act (Deemed Child Provision). The respondents are persons providing information about the relationship between the worker and his/her alleged biological child, in connection with the child's application for benefits.

Type of Request: Extension of an OMB-approved collection.

Number of Respondents: 50,000.

Frequency of Response: 1.

Average Burden Per Response: 15 minutes.

Estimated Annual Burden: 12,500 hours.

2. State Mental Institution Policy Review—20 CFR, Subpart U, 404.2001-2065, Subpart F, 416.601-416.665-0960-0110. The Social Security Act provides that the Commissioner of Social Security shall establish a system of accountability monitoring for institutions in each State that serve as a representative payee for recipients of Social Security and SSI benefits. As part of this accountability process, SSA collects information on Form SSA-9584 to determine whether the institution policies and practices conform to SSA's regulations on the use of benefits and whether the institution is performing other duties and responsibilities required of a representative payee. The information also provides a basis for conducting an onsite review of the institution and is used in the preparation of the subsequent report of findings. The respondents are state mental institutions that serve as representative payees.

Type of Request: Extension of an OMB-approved information collection.

Number of Respondents: 125.

Frequency of Response: 1.

Average Burden Per Response: 60 minutes.

Estimated Annual Burden: 125 hours.

Dated: January 22, 2004.
Elizabeth A. Davidson,
Reports Clearance Officer, Social Security Administration.

[FR Doc. 04-1929 Filed 1-28-04; 8:45 am]

BILLING CODE 4191-02-P